DEPARTMENT OF ENERGY

Federal Energy Regulatory Commission

[Docket No. EC01-94-000]

American Electric Power Service Corp.; Notice of Filing

May 8, 2001.

Take notice that on April 27, 2001, American Electric Power Service Corporation, on behalf of West Texas Utilities Company, Public Service Company of Oklahoma and Southwestern Electric Power Company, filed with the Federal Energy Regulatory Commission an application pursuant to section 203 of the Federal Power Act requesting authorization to transfer operational control of certain jurisdictional transmission facilities to the Southwest Power Pool Regional Transmission Organization as proposed and described in the filing made by the Southwest Power Pool on October 13, 2000 in Docket No. RT01-34-000.

Any person desiring to be heard or to protest such filing should file a motion to intervene or protest with the Federal Energy Regulatory Commission, 888 First Street, NE., Washington, DC 20426, in accordance with Rules 211 and 214 of the Commission's rules of practice and procedure (18 CFR 385.211 and 385.214). All such motions and protests should be filed on or before May 18, 2001. Protests will be considered by the Commission to determine the appropriate action to be taken, but will not serve to make protestants parties to the proceedings. Any person wishing to become a party must file a motion to intervene. Copies of this filings are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on Commission's web site at http://www.ferc.fed.us/efi/doorbell.htm.

Linwood A. Watson, Jr.,
Acting Secretary.

[FR Doc. 01-12023 Filed 5-11-01; 8:45 am]

BILLING CODE 6717-01-M